DEPARTMENT OF TRANSPORTATION

National Highway Traffic Safety Administration

[Docket No. NHTSA-2012-0106; Notice 1]

General Motors, LLC, Receipt of Petition for Decision of Inconsequential Noncompliance

AGENCY: National Highway Traffic Safety Administration, DOT.

ACTION: Receipt of Petition.

SUMMARY: General Motors, LLC ¹ (GM) has determined that certain model year 2012 Chevrolet Captiva and Buick Verano passenger cars manufactured between April 6, 2011 and June 4, 2011, do not fully comply with paragraph S5.2.1 of Federal Motor Vehicle Safety Standard (FMVSS) No. 101, Controls and Displays and paragraphs S5.5.5 of FMVSS No. 135, Light Vehicle Brake Systems. GM has filed an appropriate report pursuant to 49 CFR Part 573, Defect and Noncompliance Responsibility and Reports (dated June 13, 2011).

¹ General Motors, LLC is a manufacturer of motor vehicles and is registered under the laws of the state of Michigan.

Pursuant to 49 U.S.C. 30118(d) and 30120(h) (see implementing rule at 49 CFR part 556), GM has petitioned for an exemption from the notification and remedy requirements of 49 U.S.C. Chapter 301 on the basis that this noncompliance is inconsequential to motor vehicle safety.

This notice of receipt of GM's petition is published under 49 U.S.C. 30118 and 30120 and does not represent any agency decision or other exercise of judgment concerning the merits of the petition.

Vehicles Involved: Affected are approximately 47,822 model year 2012 Chevrolet Captiva and Buick Verano model passenger cars that were manufactured between April 6, 2011 and June 4, 2011.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 47,822 ² model year 2012 Chevrolet Captiva and Buick Verano model passenger cars that GM no longer controlled at the time it determined that the noncompliance existed.

² GM's petition, which was filed under 49 CFR Part 556, requests an agency decision to exempt GM as a vehicle manufacturer from the notification and recall responsibilities of 49 CFR Part 573 for 47,822 of the affected vehicles. However, a decision on this petition cannot relieve vehicle distributors and dealers of the prohibitions on the sale, offer for sale, introduction or delivery for introduction into interstate commerce of the noncompliant vehicles under their control after GM notified them that the subject noncompliance existed.

Noncompliance: GM explains that the noncompliance is that the telltales used for Park Brake are displayed using International Organization for Standardization (ISO) symbols instead of the telltale symbols required by FMVSS Nos. 101 and 135.

Rule Text: Paragraph S5.2.1 of FMVSS No. 101 requires:

S5.2.1 Except for the Low Tire Pressure Telltale, each control, telltale and indicator that is listed in column 1 of Table 1 or Table 2 must be identified by the symbol specified for it in column 2 or the word or abbreviation specified for it in column 3 of Table 1 or Table 2. If a symbol is used, each symbol provided pursuant to this paragraph must be substantially similar in form to the symbol as it appears in Table 1 or Table 2. If a symbol is used, each symbol provided pursuant to this paragraph must have the proportional dimensional characteristics of the symbol as it appears in Table 1 or Table 2. The Low Tire Pressure Telltale (either the display identifying which tire has low pressure or the display which does not identify which tire has low pressure) shall be identified by the appropriate symbol designated in column 4, or both the symbol in column 4 and the words in column 3. No identification is required for any horn (i.e., audible warning signal) that is activated by a lanyard or by the driver pressing on the center of the face plane of the steering wheel hub; or for a turn signal control that is operated in a plane essentially parallel to the face plane of the steering wheel in its normal driving position and which is located on the left side of the steering column so that it is the control on that side of the column nearest to the steering wheel face plane. However, if identification is provided for a horn control in the center of the face plane of the steering wheel hub, the identifier must meet Table 2 requirements for the horn.

Paragraphs S5.5.5 of FMVSS No. 135 requires in pertinent part:

S5.5.5. Labeling. (a) Each visual indicator shall display a word or words in accordance with the requirements of Standard No. 101 (49 CFR 571.101) and this section, which shall be legible to the driver under all daytime and nighttime conditions when activated. Unless otherwise specified, the words shall have letters not less than 3.2 mm (1/8 inch) high and the letters and background shall be of contrasting colors, one of which is red. Words or symbols in addition to those required by Standard No. 101 and this section may be provided for purposes of clarity.

(b) Vehicles manufactured with a split service brake system may use a common brake warning indicator to indicate two or more of the functions described in S5.5.1(a) through S5.5.1(g). If a common indicator is used, it shall display the word “Brake.” * * *

Summary of GM's Analysis and Arguments: GM explained that the noncompliance is that the telltales used for parking brake are displayed using International Organization for Standardization (ISO) symbols instead of the telltale symbols required by FMVSS Nos. 101 and 135.

GM stated its belief that although the instrument cluster telltale symbols are displayed using ISO symbols the noncompliance is inconsequential to motor vehicle safety for the following reasons:

(1) The functionality of all braking systems, including the service brakes and parking brakes, is not affected by the noncompliance and the vehicles will operate as intended.

(2) In addition to the parking brake telltale, the Captiva Driver Information Center (DIC) provides a message when the parking brake is set. Specifically, when the parking brake is applied and the ISO parking brake telltale is illuminated, the following message is also displayed: “Park Brake Set”

(3) In the noncompliant vehicles, the electronic parking brake automatically releases when the vehicle transmission is in drive and the vehicle is driven away.

(4) The description of the parking braking operation, found in the owner's manual, clearly indicates the ISO parking brake symbol will be displayed when the parking brake is applied.

(5) The control, which applies and releases the parking brake on the subject vehicles, is identified with the same ISO symbol that is used on the telltale to indicate the parking brake is applied.

(6) Other current and previous vehicles manufactured by GM and other manufacturers use the ISO parking brake symbol in conjunction with the word “PARK”, or a common brake telltale incorporating the subject park brake symbol in conjunction with the word “BRAKE” and the ISO symbol for brake malfunction, to indicate the application of the parking brake. GM has also, confirmed that the Parking Brake ISO telltale, in conjunction with the brake malfunction telltale and word “BRAKE”, has been used on other vehicles and thus the motoring public has come to associate the ISO park brake symbol with the application of the parking brake.

(7) GM is unaware of any field or owner complaints or injuries regarding the subject noncompliance.

In summation, GM believes that the described noncompliance of its vehicles is inconsequential to motor vehicle safety, and that its petition, to exempt it from providing recall notification of noncompliance as required by 49 U.S.C. 30118 and remedying the recall noncompliance as required by 49 U.S.C. 30120 should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to U.S. Department of Transportation, Docket Operations, M-30, West Building Ground Floor, Room W12-140, 1200 New Jersey Avenue SE., Washington, DC 20590. The Docket Section is open on weekdays from 10 a.m. to 5 p.m. except Federal Holidays.

c. Electronically: By logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

DATES: Comment closing date: December 5, 2012.

Authority: (49 U.S.C. 30118, 30120: delegations of authority at CFR 1.95 and 501.8).

Issued on: October 24, 2012.
Claude H. Harris,
Director, Office of Vehicle Safety Compliance.

[FR Doc. 2012-26914 Filed 11-2-12; 8:45 am]

BILLING CODE 4910-59-P